DEPARTMENT OF THE INTERIOR

Bureau of Land Management

[ID-090-1610-PG; DBG-0200001]

Notice of Public Meeting, Lower Snake River District Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Lower Snake River District Resource Advisory Council (RAC), will meet as indicated below.

DATES: The meeting will be held August 14, 2002 at the Lower Snake River District Office, located at 3948 Development Avenue, Boise, Idaho, beginning at 9 a.m. The public comment periods will be held after each topic. The meeting is expected to adjourn at 4 p.m.

FOR FURTHER INFORMATION CONTACT: MJ Byrne, Public Affairs Officer and RAC Coordinator, Lower Snake River District, 3948 Development Ave., Boise, ID 83705, Telephone (208) 384-3393.

SUPPLEMENTARY INFORMATION: The 15-member Council advises the Secretary of the Interior, through the Bureau of Land Management, on a variety of planning and management issues associated with public land management in southwestern Idaho. At this meeting, topics we plan to discuss include:

Subgroup reports on OHV initiative, river recreation and resource management plans; Panel discussion regarding sage grouse habitat management; Update on Mormon Cricket EA, treatments and plans for 2003; and Update on the two Resource Management Plans under development in the District.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

Dated: July 2, 2002.
Sandy Guches,
Acting District Manager.

[FR Doc. 02-17617 Filed 7-12-02; 8:45 am]

BILLING CODE 4310-GG-P